DEPARTMENT OF COMMERCE

National Oceanic and Atmospheric Administration

RIN 0648-XG249

Public Meeting on the Definition of Fish Aggregating Devices

AGENCY: National Marine Fisheries Service (NMFS), National Oceanic and Atmospheric Administration (NOAA), Commerce.

ACTION: Notice of public meeting.

SUMMARY: NMFS announces a public meeting to seek input on the definition of fish aggregating devices (FADs) that could be applied for conservation measures by international fishery management organizations in which the United States participates.

DATES: The meeting will be held on Friday June 29, 2018 from 9:00 a.m. to 1:00 p.m. PDT.

ADDRESSES: The meeting will be held in the Pacific Conference Room (Room 300) at NMFS, Southwest Fisheries Science Center, 8901 La Jolla Shores Drive, La Jolla, California 92037-1508. Please notify Dawn Graham (see FOR FURTHER INFORMATION CONTACT) by June 22, 2018, if you plan to attend the meeting in person or remotely. The meeting will be accessible by webinar—instructions will be emailed to meeting participants who provide notice.

FOR FURTHER INFORMATION CONTACT: Rachael Wadsworth by email at rachael.wadsworth@noaa.gov, or by phone at (562) 980-4036; or Dawn Graham by email at dawn.graham@noaa.gov, or by phone at (858) 546-7081.

SUPPLEMENTARY INFORMATION: NMFS would like to meet with interested members of the public to discuss and receive public input on the various definitions of FADs used in regional fishery management organizations (RFMOs) in which the United States participates. This could include the effect of the definitions on the management of FAD fishing, tropical tuna stock health, and U.S. fishing interests; whether NMFS should pursue efforts to adopt a common definition of FADs that could be applied across organizations; and if so, the scope and content of that definition. Additionally, NMFS requests public input on defining non-entangling FADs and active beacons on FADs. NMFS is also interested in any public input on alternative approaches to addressing stakeholder concerns related to the management of FAD fishing, tropical tuna stock health, and U.S. fishing interests across RFMOs in which the United States participates.

Special Accommodations

The meeting location is physically accessible to people with disabilities. Requests for sign language interpretation or other auxiliary aids should be directed to Dawn Graham (see FOR FURTHER INFORMATION CONTACT) by June 15, 2018.

Dated: May 31, 2018.
Samuel D. Rauch, III,
Deputy Assistant Administrator for Regulatory Programs, National Marine Fisheries Service.

[FR Doc. 2018-12029 Filed 6-4-18; 8:45 am]

BILLING CODE 3510-22-P